DEPARTMENT OF ENERGY

Energy Information Administration

Agency Information Collection Activities: Submission for OMB Review; Comment Request

AGENCY: Energy Information Administration (EIA), Department of Energy (DOE).

ACTION: Agency information collection activities: Submission for OMB review; comment request.

SUMMARY: The EIA has submitted the form, FE-746R, “Natural Gas Import and Export Application” to the Office of Management and Budget (OMB) for review and a three-year extension under the Paperwork Reduction Act of 1995.

DATES: Comments must be filed by April 12, 2010. If you anticipate that you will be submitting comments but find it difficult to do so within that period, you should contact the OMB Desk Officer for DOE listed below as soon as possible.

ADDRESSES: Send comments to OMB Desk Officer for DOE, Office of Information and Regulatory Affairs, Office of Management and Budget. To ensure receipt of the comments by the due date, submission by FAX at 202-395-7285 or e-mail to Christine_Kymn@omb.eop.gov is recommended. The mailing address is 726 Jackson Place, NW., Washington, DC 20503. The OMB DOE Desk Officer may be telephoned at (202) 395-4638. (A copy of your comments should also be provided to EIA's Statistics and Methods Group at the address below.)

FOR FURTHER INFORMATION CONTACT: Requests for additional information should be directed to Grace Sutherland. To ensure receipt of the comments by the due date, submission by FAX (202-586-5271) or e-mail (grace.sutherland@eia.doe.gov) is also recommended. The mailing address is Statistics and Methods Group (EI-70), Forrestal Building, U.S. Department of Energy, Washington, DC 20585-0670. Ms. Sutherland may be contacted by telephone at (202) 586-6264.

SUPPLEMENTARY INFORMATION: This section contains the following information about the energy information collection submitted to OMB for review: (1) The collection numbers and title; (2) the sponsor (i.e., the Department of Energy component; (3) the current OMB docket number (if applicable); (4) the type of request (i.e., new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. Form FE-746R,

2. Department of Energy

3. OMB Number 1901-0294

4. Three-year extension

5. Mandatory

6. DOE's Office of Fossil Energy (FE) is delegated the authority to regulate natural gas imports and exports under section 3 of the Natural Gas Act of 1938, 15 U.S.C. 717b. In order to carry out its delegated responsibility, FE requires those persons seeking to import or export natural gas to file an application containing the basic information about the scope and nature of the proposed import/export activity. Historically, FE has collected information on a quarterly and monthly basis regarding import and export transactions. That information has been used to ensure compliance with the terms and conditions of the authorizations. In addition, the data are used to monitor North American gas trade, which, in turn, enables the Federal government to perform market and regulatory analyses; improve the capability of industry and the government to respond to any future energy-related supply problems; and keep the general public informed of international natural gas trade.

7. Business or other for-profit (or other appropriate type of respondents).

8. There are 12,110 total burden hours, and 325 total respondents. Short-term and long term applications are filed annually, and applicants who hold authorizations file a monthly report.

Please refer to the supporting statement as well as the proposed forms and instructions for more information about the purpose, who must report, when to report, where to submit, the elements to be reported, detailed instructions, provisions for confidentiality, and uses (including possible nonstatistical uses) of the information. For instructions on obtaining materials, see the FOR FURTHER INFORMATION CONTACT section.

Statutory Authority: Section 13(b) of the Federal Energy Administration Act of 1974, Public Law 93-275, codified at 15 U.S.C. 772(b), and Section 3 of the Natural Gas Act of 1938, codified at 15 U.S.C. 717b.

Issued in Washington, DC, March 8, 2010.
Renee H. Miller,
Director, Forms Clearance and Information Quality Division, Statistics and Methods Group, Agency Clearance Officer Energy Information Administration.

[FR Doc. 2010-5420 Filed 3-11-10; 8:45 am]

BILLING CODE 6450-01-P